DEPARTMENT OF THE INTERIOR

Bureau of Ocean Energy Management

[MMAA 104000]

Outer Continental Shelf, Gulf of Mexico, Oil and Gas Central Planning Area Lease Sales 241 and 247 and Eastern Planning Area Lease Sale 226

AGENCY: Bureau of Ocean Energy Management (BOEM), Interior.

ACTION: Notice of availability and announcement of public meetings and comment period.

SUMMARY: The Bureau of Ocean Energy Management (BOEM) has prepared a Draft Supplemental Environmental Impact Statement (EIS) for proposed oil and gas Central Planning Area (CPA) Lease Sales 241 and 247 and Eastern Planning Area (EPA) Lease Sale 226 in the Gulf of Mexico (CPA 241/247/EPA 226 Draft Supplemental EIS). Proposed CPA Lease Sale 241 and EPA Lease Sale 226 are tentatively scheduled to be held in March 2016, and proposed CPA Lease Sale 247 is tentatively scheduled to be held in March 2017. The CPA 241/247/EPA 226 Draft Supplemental EIS updates the environmental and socioeconomic analyses in the Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS) (OCS EIS/EA BOEM 2012-019); Gulf of Mexico OCS Oil and Gas Lease Sales: 2014 and 2016; Eastern Planning Area Lease Sales 225 and 226, Final Environmental Impact Statement (EPA 225/226 EIS) (OCS EIS/EA BOEM 2013-200); Gulf of Mexico OCS Oil and Gas Lease Sales: 2013-2014; Western Planning Area Lease Sale 233; Central Planning Area Lease Sale 231, Final Supplemental Environmental Impact Statement (WPA 233/CPA 231 Supplemental EIS) (OCS EIS/EA BOEM 2013-0118); Gulf of Mexico OCS Oil and Gas Lease Sales: 2014-2016; and Gulf of Mexico OCS Oil and Gas Lease Sales: 2015-2017; Central Planning Area Lease Sales 235, 241, and 247, Final Supplemental Environmental Impact Statement (CPA 235/241/247 Supplemental EIS) (OCS EIS/EA BOEM 2014-655).

Authority: This NOA is published pursuant to the Council on Environmental Quality regulations (40 CFR part 1503) implementing the provisions of the National Environmental Policy Act of 1969, as amended (42 U.S.C. 4321 et seq. [1988]).

SUPPLEMENTARY INFORMATION: BOEM prepared the CPA 241/247/EPA 226 Draft Supplemental EIS to consider new information made available since completion of the 2012-2017 WPA/CPA Multisale EIS, WPA 233/CPA 231 Supplemental EIS, WPA 238/246/248 Supplemental EIS, and CPA 235/241/247 Supplemental EIS, and new information related to the Deepwater Horizon explosion, oil spill, and response. The CPA 241/EPA 226 Draft Supplemental EIS provides new information on the baseline conditions and potential environmental effects of oil and natural gas leasing, exploration, development, and production in the CPA and EPA. BOEM conducted an extensive search for new information, reviewing scientific journals and available scientific data and information from academic institutions and Federal, State, and local agencies; and interviewing personnel from academic institutions and Federal, State, and local agencies. BOEM examined the potential impacts of routine activities and accidental events and the proposed lease sales' incremental contribution to the cumulative impacts on environmental and socioeconomic resources. The oil and gas resource estimates and scenario for the CPA 241/247/EPA 226 Draft Supplemental EIS are presented as a range that would encompass the resources and activities estimated for each proposed lease sale.

Draft Supplemental EIS Availability: You may download or view the CPA 241/247/EPA 226 Draft Supplemental EIS on BOEM's Web site at http://www.boem.gov/nepaprocess/. In keeping with the Department of the Interior's mission of the protection of natural resources and to limit costs while ensuring availability of the document to the public, BOEM will primarily distribute digital copies of the CPA 241/247/EPA 226 Draft Supplemental EIS on compact discs. BOEM has printed and will be distributing a limited number of paper copies. If you require a paper copy, BOEM will provide one upon request if copies are still available. You may obtain a copy of the CPA 241/247/EPA 226 Draft Supplemental EIS from the Bureau of Ocean Energy Management, Gulf of Mexico OCS Region, Public Information Office (GM 335A), 1201 Elmwood Park Boulevard, Room 250, New Orleans, Louisiana 70123-2394 (1-800-200-GULF).

Several libraries along the Gulf Coast have been sent copies of the CPA 241/247/EPA 226 Draft Supplemental EIS. To find out which libraries have copies of the CPA 241/247/EPA 226 Draft Supplemental EIS for review, you may contact BOEM's Public Information Office or visit BOEM's Web site at http://www.boem.gov/nepaprocess/.

Comments: All interested parties, including Federal, State, Tribal, and local governments, and other organizations and members of the public, may submit written comments on the CPA 241/247/EPA 226 Draft Supplemental EIS in one of the following ways:

1. In an envelope labeled “Comments on the CPA 241/247/EPA 226 Draft Supplemental EIS” and mailed (or hand carried) to Mr. Gary D. Goeke, Chief, Environmental Assessment Section, Office of Environment (GM 623E), Bureau of Ocean Energy Management, Gulf of Mexico OCS Region, 1201 Elmwood Park Boulevard, New Orleans, Louisiana 70123-2394;

2. Through the regulations.gov web portal: Navigate to http://www.regulations.gov and search for “Oil and Gas Lease Sales: Gulf of Mexico, Outer Continental Shelf; Central Planning Area Lease Sales 241 and 247 and Eastern Planning Area Lease Sale 226” (It is important to include the quotation marks in your search terms). Click on the “Comment Now!” button to the right of the document link. Enter your information and comment, then click “Submit”; or

3. Through BOEM's email address: cpa241-epa226@boem.gov.

Comments should be submitted no later than March 16, 2015.

Pursuant to the regulations implementing the procedural provisions of NEPA, BOEM will hold public meetings in Louisiana, Mississippi, Alabama, and Florida to solicit comments on the CPA 241/247/EPA 226 Draft Supplemental EIS. These meetings are scheduled as follows:

• New Orleans, Louisiana: Monday, February 23, 2015, Bureau of Ocean Energy Management, Gulf of Mexico OCS Region, 1201 Elmwood Park Boulevard, New Orleans, Louisiana 70123, one meeting beginning at 1:00 p.m. CST;

• Panama City, Florida: Tuesday, February 24, 2015, Wyndham Bay Point Resort, 4114 Jan Cooley Drive, Panama City Beach, Florida, 32408, one meeting beginning at 4:00 p.m. CST;

• Mobile, Alabama: Wednesday, February 25, 2015, Hilton Garden Inn Mobile West, 828 West I-65 Service Road South, Mobile, Alabama 36609, one meeting beginning at 4:00 p.m. CST;

• Gulfport, Mississippi: Thursday, February 26, 2015, Courtyard by Marriott, Gulfport Beachfront MS Hotel, 1600 East Beach Boulevard, Gulfport, Mississippi 39501, one meeting beginning at 4:00 p.m. CST.

FOR FURTHER INFORMATION CONTACT: For more information on the CPA 241/247/EPA 226 Draft Supplemental EIS, you may contact Mr. Gary D. Goeke, Bureau of Ocean Energy Management, Gulf of Mexico OCS Region, Office of Environment (GM 623E), 1201 Elmwood Park Boulevard, New Orleans, Louisiana 70123-2394 or by email at cpa241-epa226@boem.gov. You may also contact Mr. Goeke by telephone at 504-736-3233.

Public Disclosure of Names and Addresses

As BOEM does not consider anonymous comments, please include your name and address as part of your submittal. BOEM makes all comments, including the names and addresses of respondents, available for public review during regular business hours. Individual respondents may request that BOEM withhold their names and/or addresses from the public record; however, BOEM cannot guarantee that we will be able to do so. If you wish your name and/or address to be withheld, you must state your preference prominently at the beginning of your comment. All submissions from organizations or businesses and from individuals identifying themselves as representatives or officials of organizations or businesses will be made available for public inspection in their entirety.

Dated: January 14, 2015.
Abigail Ross Hopper,
Director, Bureau of Ocean Energy Management.

[FR Doc. 2015-01758 Filed 1-29-15; 8:45 am]

BILLING CODE 4310-MR-P